DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, November 3, 2010, 2 p.m. to November 3, 2010, 5 p.m., National Institutes of Health, 5635 Fishers Lane, Bethesda, MD 20892 which was published in the Federal Register on August 30, 2010, 75 FR DOC. 2010-21663.

Date and time was changed from 11/3/2010; 2 p.m. to 5 p.m. to reflect 11/10/2010; 10 a.m. to 1 p.m. The meeting is closed to the public.

Dated: October 5, 2010.
Jennifer Spaeth,
Director, Office of Federal Advisory Committee Policy.

[FR Doc. 2010-25639 Filed 10-8-10; 8:45 am]

BILLING CODE 4140-01-P